DEPARTMENT OF EDUCATION

[Docket No.: ED-2021-SCC-0099]

Agency Information Collection Activities; Submission to the Office of Management and Budget for Review and Approval; Comment Request; ESEA Fiscal Waiver Requests

AGENCY: Office of Postsecondary Education (OPE), Department of Education (ED).

ACTION: Notice.

SUMMARY: In accordance with the Paperwork Reduction Act of 1995, ED is proposing an extension without change of a currently approved collection.

DATES: Interested persons are invited to submit comments on or before October 29, 2021.

ADDRESSES: Written comments and recommendations for proposed information collection requests should be sent within 30 days of publication of this notice to www.reginfo.gov/public/do/PRAMain. Find this information collection request by selecting “Department of Education” under “Currently Under Review,” then check “Only Show ICR for Public Comment” checkbox. Comments may also be sent to ICDocketmgr@ed.gov.

FOR FURTHER INFORMATION CONTACT: For specific questions related to collection activities, please contact Todd Stephenson, 202-205-1645.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: ESEA Fiscal Waiver Requests.

OMB Control Number: 1810-0760.

Type of Review: An extension without change of a currently approved collection.

Respondents/Affected Public: State, Local, and Tribal Governments.

Total Estimated Number of Annual Responses: 53.

Total Estimated Number of Annual Burden Hours: 53.

Abstract: Due to the extraordinary circumstances created by the COVID-19 pandemic and unprecedented obstacles students, educators, and schools faced during the 2020-2021 school year, the U.S. Department of Education (the Department) offered each State educational agency (SEA) the opportunity to request waivers that will afford additional fiscal flexibility for certain funds received under the Elementary and Secondary Education Act of 1965 (ESEA), pursuant to the Department's authority under section 8401 of the ESEA. Specifically, the Department offered a waiver for an SEA to be able to approve a local educational agency (LEA) to carry over more than 15 percent of its fiscal year (FY) 2020 Title I, Part A funds (i.e., the Title I, Part A funds that will become carryover funds on October 1, 2021), even if the LEA has received a waiver from its SEA to exceed this limitation for its FY 2018 or FY 2019 Title I, Part A funds. Second, we also offered flexibility to each SEA to be able to extend for itself and its subgrantees the period of availability of FY 2019 funds for programs included in the State's consolidated State plan to allow additional time to obligate those funds. This extension request is for the Title I fiscal waiver template the Department created for grantees to request those waivers.

Dated: September 23, 2021.
Kate Mullan,
PRA Coordinator, Strategic Collections and Clearance, Governance and Strategy Division, Office of Chief Data Officer, Office of Planning, Evaluation and Policy Development.

[FR Doc. 2021-21114 Filed 9-28-21; 8:45 am]

BILLING CODE 4000-01-P